DEPARTMENT OF ENERGY

Federal Energy Regulatory Commission

[Docket No. TM00-1-25-002]

Mississippi River Transmission Corporation; Notice of Proposed Changes in FERC Gas Tariff

April 13, 2000.

Take notice that on April 7, 2000, Mississippi River Transmission Corporation (MRT) tendered for filing as apart of its Gas Tariff, Third Revised Volume No. 1, the sheets listed below to become effective June 1, 2000:

Substitute Thirty Fourth Revised Sheet No. 5

Substitute Thirty Fourth Revised Sheet No. 6

Substitute Thirty First Revised Sheet No. 7

Substitute Eleventh Revised Sheet No. 8

MRT states that the purpose of this filing is to adjust the Fuel Use and Loss Percentages under its Rate Schedules FTS, SCT, ITS, FSS and ISS pursuant to Section 22 of the General Terms and Conditions of its FERC Gas Tariff and the Commission's order in Docket No. TM00-1-25-000. MRT further states, subject to the Commission's authorization, the filing will replace and supersede the tariff filing made by MRT on October 1, 1999 in Docket No. TM00-1-25-000.

MRT states that a copy of this filing is being mailed to each of the parties to this proceeding, its customers and to the state commissions of Arkansas, Illinois, and Missouri.

Any person desiring to protest said filing should file a protest with the Federal Energy Regulatory Commission, 888 First Street, NE, Washington, DC 20426, in accordance with Section 385.211 of the Commission's Rules and Regulations. All such protests must be filed on or before April 28, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-9769 Filed 4-18-00; 8:45 am]

BILLING CODE 6717-01-M